SECURITIES AND EXCHANGE COMMISSION

Sunshine Act Meeting

Federal Register Citation of Previous Announcement. [67 FR 7208, February 15, 2002]

Status: Closed Meeting.

Place: 450 Fifth Street, NW., Washington, DC.

Date and time of Previously Announced Meeting: Thursday, February 21, 2002, at 10 a.m.

Change in the Meeting: Additional Item.

The following item has been added to the closed meeting scheduled for Thursday, February 21, 2002: Consideration of amicus participation.

Commissioner Glassman, as duty officer, determined that Commission business required the above change and that no earlier notice thereof was possible.

At times, changes in Commission priorities require alterations in the scheduling of meeting items. For further information and to ascertain what, if any, matters have been added, deleted or postponed, please contact: The Office of the Secretary at (202) 942-7070.

Dated: February 20, 2002.
Jonathan G. Katz,
Secretary.

[FR Doc. 02-4509 Filed 2-21-02; 8:47 am]

BILLING CODE 8010-01-M